DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KP, the Office of the Deputy Assistant Secretary for Administration (ODASA) [67 FR 8816], as last amended, February 26, 2002. This notice reflects the restructuring of the Office of the Deputy Assistant Secretary and the realignment of functions within the Office.

This Chapter is amended as follows:

1. Chapter KP, Office of the Deputy Assistant Secretary for Administration

A. Delete KP.10 Organization in its Entirety and Replace With the Following:

KP.10 Organization. The Office of the Deputy Assistant Secretary for Administration is headed by the Deputy Assistant Secretary who reports to the Assistant Secretary for Children and Families. The Office is organized as follows:

• Immediate Office of the Deputy Assistant Secretary for Administration (KPA)

• Office of Information Services (KPB)

• Office of Financial Services (KPC)

• Office of Management Resources (KPD)

• Office of Grants Management (KPG)

• Equal Employment Opportunity and Civil Rights Staff (KPH)

B. Delete KP.20 Functions, Paragraph A, The Office of the Deputy Assistant Secretary for Administration (ODASA), in its Entirety and Replace With the Following:

KP.20 Functions. A. The Immediate Office of the Deputy Assistant Secretary for Administration (ODASA) directs and coordinates all administrative activities for the Administration for Children and Families (ACF). The Deputy Assistant Secretary for Administration serves as ACF's: Chief Financial Officer; Chief Grants Management Officer; Federal Manager's Financial Integrity Act (FMFIA) Management Control Officer; Principal Information Resource Management Official serving as Chief Information Officer; Deputy Ethics Counselor; Personnel Security Representative; and Reports Clearance Officer. The Deputy Assistant Secretary for Administration serves as the ACF liaison to the Office of the General Counsel, and as appropriate, initiates action in securing resolution of legal matters relating to management of the agency, and represents the Assistant Secretary on all administrative litigation matters.

The Deputy Assistant Secretary for Administration represents the Assistant Secretary in HHS and with other Federal agencies and task forces in defining objectives and priorities, and in coordinating activities associated with Presidential Management Agenda initiatives. ODASA provides leadership of assigned ACF special initiatives arising from Departmental, federal and non-federal directives to improve service delivery to customers.

The Deputy Assistant Secretary for Administration provides day-to-day executive leadership and direction to the Immediate Office of the Deputy Assistant Secretary, Equal Employment Opportunity and Civil Rights Staff, Office of Information Services, Office of Financial Services, Office of Management Resources, and the Office of Grants Management. The Deputy Director for Administration assists the Deputy Assistant Secretary in carrying out the responsibilities of the Office.

The Immediate Office of the Deputy Assistant Secretary for Administration contains the Administrative Services Team, the Budget Team and the Physical Security and Safety Team.

The Administrative Services Team provides direction in meeting the human capital management needs within ODASA. The Team provides leadership, guidance, oversight and liaison functions for ODASA personnel related issues and activities as well as other administrative functions within ODASA. The Administrative Services Team coordinates with the Office of the Secretary to provide ODASA staff with a full array of personnel services, including position management, performance management, employee recognition, staffing, recruitment, employee and labor relations, employee assistance, payroll liaison, staff development and training, and special hiring and placement programs. The Team develops and maintains systems to track personnel actions to keep the Deputy Assistant Secretary for Administration and ODASA Office Directors informed about the status of personnel actions, employee programs, services and benefits.

The Budget Team manages the formulation and execution of ODASA's federal administration budget and assigned ACF program and common expense budgets. The Budget Team maintains budgetary controls on ODASA accounts, reconciling accounting reports and invoices, and monitoring all spending. The Team develops, defends and executes the assigned funds for rent, repair and alterations, facilities activities, telecommunication, information technology, personnel services and training. The Team also controls ODASA's credit card for small purchases.

The Physical Security and Safety Team is responsible for planning, managing, and directing ACF's safety, security, and emergency management programs. The Team serves as the lead for ACF in coordination and liaison with Departmental, GSA and other Federal agencies on implementation of federal physical security directives. The Physical Security and Safety Team serves as lead for all tenant security matters in the Aerospace Building. The Team is responsible for planning and executing ACF's environmental health program, and ensuring that appropriate occupational health and safety plans are in place. The Team is responsible for issuing, managing and controlling badge and cardkey systems to control access to agency space for security purposes.

C. Delete KP.20 Functions, Paragraph B, The Office of Information Services (OIS), in its Entirety and Replace With the Following:

B. The Office of Information Services (OIS) supports the Deputy Assistant Secretary in providing centralized information technology policy, procedures, standards and guidelines. The OIS Director serves as the Deputy Chief Information Officer, supporting the Chief Information Officer in the full range of activities required to carry out ACF's information technology (IT) and information resource management (IRM) programs. The Office provides liaison with OMB, GSA, and GAO on all IT and IRM matters and manages major interdepartmental IRM initiatives. It directs and coordinates ACF's Privacy Act responsibilities. The Office coordinates mandated OMB information collection approvals and plans. It directs and maintains ACF records and forms management programs. OIS develops long-range IRM plans; develops IRM policy, procurement plans and budgets for ACF information systems. The Office develops and implements procurement strategies for ADP support services. OIS reviews and analyzes all ADP acquisition documentation for compliance with applicable laws and regulations as well as for procurement strategy. It coordinates technical assistance provided to program offices on ADP support services procurements. The Office oversees the implementation of e-government policies through leadership and coordination with ACF program and staff offices; develops, recommends and implements policies, procedures, standards and guidelines; and serves as the ACF liaison with the Department and other federal and non-federal agencies to coordinate e-government strategies and policies.

OIS plans, manages, maintains and operates ACF's local area networks, nationwide area network and personal computers; provides for equipment and software acquisition, maintenance and user support for end-user computing; and manages and maintains a Help Desk for ACF users. OIS develops and implements policies and plans for and acquires and manages data communications services; provides liaison with HHS, GSA and private firms on data communications equipment and systems.

OIS designs, develops, implements and maintains application systems to support ACF budget, program and administrative systems. The Office provides technical assistance to ACF program offices procuring system support services; technical assistance to State and local agencies on ACF computer systems; develops software policy, procedures, standards and guidelines; and conducts required Departmental reviews of ADP systems.

OIS designs, develops, and maintains system support for e-government activities; provides technical assistance to ACF program offices for e-government support services; and provides technical assistance on e-government systems to State and local agencies.

The Office develops and/or implements agency telecommunications management policy in accordance with Federal regulations and procedures. The Office reviews and directs payment of agency telephone invoices. It recommends and advises on the design and function of telecommunications systems, based on user needs, costs and technological availability. The Office communicates with private industry service providers to coordinate the acquisition, installation and maintenance of voice/data telecommunications equipment and systems. It is responsible for other sources of communications capability such as pagers, cellular phone service, cable TV service, and audio conferencing equipment and service. It updates and maintains the databases for telephone lines and equipment inventories.

OIS establishes, implements, maintains and oversees an IT security program that assures adequate security is provided for all agency information collected, processed, transmitted, stored or disseminated in general support systems and applications. The Office develops and implements ACF policies, standards and procedures consistent with government-wide IT security policies; conducts the ACF system security activities required by OMB IT security directives; develops, implements and maintains a security training plan for IT professionals; and provides security awareness training for all ACF staff.

D. Delete KP.20 Functions, Paragraph C, The Office of Financial Services (OFS), in its Entirety and Replace With the Following:

C. The Office of Financial Services (OFS) supports the Deputy Assistant Secretary for Administration in fulfilling ACF's Chief Financial Officer (CFO) and Federal Manager's Financial (FMFIA) Management Control Officer responsibilities including preparation of the CFO 5-Year Plan; performs audit oversight and liaison activities, including preparing reports to Congress, Office of the General Counsel and the Office of the Inspector General. OFS writes/interprets financial policy and researches appropriation law issues; oversees and coordinates ACF's FMFIA activities; performs debt management functions; develops and administers quality assurance, training and certification programs for grants management; and is responsible for the annual preparation and audit of ACF's financial statement requirements. The Office develops/interprets internal policies and procedures for ACF components and coordinates the management of ACF's interagency agreement activities.

The Office provides agency-wide guidance to program and regional office staff on grant related issues; including developing and interpreting financial and grants policy, coordinating strategic grants planning, facilitating policy advisory groups, and assuring consistent grant program announcements. The Office prepares, coordinates and disseminates action transmittals, information memoranda, and other policy guidance on financial and grants management issues; provides financial and grants administration technical assistance to ACF staff; directs and/or coordinates management initiatives to improve financial administration of ACF mandatory and discretionary grant programs. OFS develops and administers grants management training for ACF program and grants staff and administers grants management certification for ACF grants staff.

OFS is responsible for developing ACF policies and procedures under which States obtain Federal Financial Participation in the cost of automated systems development to support programs funded under the Social Security Act. It serves as the departmental focal point and coordinator for the development and implementation of strategies and policies related to payment integrity, welfare systems integration, electronic benefit transfer and related initiatives and programs; and provides leadership and guidance to interagency work groups in these areas for the Department.

The Office provides policy guidance, management leadership and coordination regarding the optimum inter-operation of the multitude of complex Federal, State, local, tribal and private information technology systems used to carry out ACF programs. OFS provides leadership and coordination in the areas of State systems assessments, systems design and planning, systems integration, data exchanges, information management, information security and electronic information exchanges.

E. Delete KP.20 Functions, Paragraph D, The Office of Organizational Development Services; Paragraph E, The Office of Customer Service and Administration; and Paragraph L, The Office of Administrative Services and Facilities Management in Their Entirety and Establish the Following:

D. The Office of Management Resources (OMR) advises the Deputy Assistant Secretary for Administration on human resource management, materiel resource management, and organizational and employee development activities for ACF. OMR provides leadership, direction and oversight for human resource management services provided to ACF through a contract and supplemental memoranda of understanding (MOUs) with the Program Support Center (PSC). OMR, in collaboration and coordination with the PSC, provides advice and assistance to ACF managers in their personnel management activities, including recruitment, selection, position management, performance management, designated performance and incentive awards and employee assistance programs and other services to ACF employees. OMR provides management, direction and oversight of the following personnel administrative services: the exercise of appointing authority, position classification, awards authorization, performance management evaluation, personnel action processing and record keeping, merit promotion, special hiring and placement programs. OMR serves as liaison between ACF, the Department and the Office of Personnel Management. It provides technical advice and assistance on personnel policy, regulations and laws. OMR formulates and interprets policies pertaining to existing personnel administration and management matters and formulates and interprets new human resource programs and strategies.

The Office, in collaboration and coordination with the PSC, provides oversight and management advisory services on all ACF employee relations issues. The Office plans and coordinates ACF employee relations and labor relations activities, including the application and interpretation of the Federal Labor Management Relations Program, collective bargaining agreements, disciplinary and adverse action regulations and appeals. The Office participates in the formulation and implementation of policies, practices and matters affecting bargaining unit employees' working conditions by assuring management's compliance with the Federal Labor Relations Program (5 U.S.C. Chapter 71). The Office maintains oversight, leadership and direction of the labor-management and employee relations services provided under contract with the PSC.

OMR is responsible for formulation, planning, analysis and development of ACF human resource policies and programs, workforce planning, and liaison functions to the Department on ACF payroll matters.

The Office formulates and oversees the implementation of ACF-wide policies, regulations and procedures concerning all aspects of the Senior Executive Service (SES), and SES-equivalent recruitment, staffing, position establishment, compensation, award, performance management and related personnel areas. The Office manages the ACF SES performance recognition systems and provides services for functions of the Executive Secretary to the Executive Resources Board and the Performance Review Board. OMR coordinates Schedule C and executive personnel activity with the Office of the Secretary and is the focal point for data, reports and analyses relating to Schedule C, SES and Executive-level personnel.

OMR administers the ACF Ethics program, the Personnel Security program, and the Drug Testing program in coordination with the Department's Office of Government Ethics, the Office of General Counsel and the Office of Security and Drug Testing.

The Office of Management Resources directs and manages ACF's administrative support services, and materiel management programs and activities. The Office provides, prepares, coordinates and disseminates information, policy and procedural guidance on administrative and materiel management issues on an agency-wide basis. It directs and/or coordinates management initiatives to improve ACF administrative and materiel management services with the goal of continually improving services while containing costs.

The Office establishes and manages contracts and/or blanket purchase agreements for administrative support and materiel management services, including space design, building alteration and repair, reprographics, moving, labor, property management and inventory, systems furniture acquisitions and assembly, and fleet management.

The Office provides management and oversight of ACF mail delivery services and activities, including Federal and contractor postal services nationwide, covering all classes of U.S. Postal Service mail, priority and express mail services, and courier services, etc.

The Office directs all activities associated with the ACF Master Housing Plan, including coordination and development of the agency long-range space budget; planning, budgeting, identification, solicitation, acceptance and utilization of office and special purpose space, repairs, and alterations; serving as principal liaison with GSA and other Federal agencies, building managers and materiel engineers, architects and commercial representatives, for space acquisition, negotiation of lease terms, dealing with sensitive issues such as handicapped barriers, and space shortages. It develops and maintains space floor plans and inventories, directory boards, and locator signs. The Office serves as principal liaison with private and/or Federal building managers for all administrative services and materiel management activities.

The Office plans, manages/operates employee transportation programs, including shuttle service and fleet management; employee and visitor parking. The Office develops and implements ACF travel policies and procedures consistent with Federal requirements. The Office provides technical assistance and oversight; coordinates ACF use of the Travel Management System; manages employee participation in the Travel Charge Card program, and coordinates Travel Management Center services for ACF. It purchases and tracks common use supplies, stationery and publications. It plans and manages reprographic services.

The Office develops and implements policies and procedures for the ACF Personal Property Management program, including managing the ACF Personal Property Inventory, and other personal property activities.

OMR advises the Deputy Assistant Secretary for Administration on organizational analysis and development including: delegations of authority; planning for new organizational elements; and planning, organizing and performing studies, analyses and evaluations related to structural, functional and organizational issues, problems and policies to ensure organizational effectiveness. The Office administers ACF's system for review, approval and documentation of delegations of authority. The Office provides technical assistance and guidance to ACF offices on intra-component organizational proposals and is responsible for development and/or review of inter-component organizational proposals. The Office develops policies and procedures for implementing organizational development activities and provides leadership of assigned ACF special initiatives arising from Departmental, federal and non-federal directives to improve service delivery to customers and to enhance employee work environment. The Office manages and coordinates designated incentive awards programs.

The Office develops training policy and plans for ACF. It provides leadership in directing and managing Agency-wide staff development and training activities for ACF. OMR is responsible for the functional management of all information technology and software training, common needs training, and management training in the agency, including policy development, guidance, technical assistance and evaluation of all aspects of career, employee, supervisory, management and executive training. The Office provides leadership in managing/overseeing and monitoring the ACF Training Resource Center and the Computer Training and Information Centers. The Office develops and manages the consolidated training budget for the Agency.

F. Delete KB.20 Functions, Paragraph G, The Office of Grants Management in its Entirety and Replace With the Following:

G. The Office of Grants Management (OGM) supports the Deputy Assistant Secretary for Administration in fulfilling ACF's Chief Grants Management Officer Responsibilities. The Office serves as the principal office within ACF for ensuring the business and financial responsibilities of grants administration are carried out. OGM provides direct administration and management of ACF discretionary, formula, entitlement and block grants; directs all grants and cooperative agreements awarded by ACF and assures compliance with applicable statutes, regulations, and policies; and performs audit resolutions. The Office provides leadership and technical guidance to ACF program and regional Offices on grant operations and grants management issues; OGM interprets and implements financial policies, regulations, legislation and appropriations law; and secures resolution of legal matters relating to grants administration and management. The Office coordinates with the Office of Financial Services on crosscutting issues.

OGM provides agency-wide leadership and guidance to program officials and staff on grants management related issues, including: Assisting in developing, implementing, and evaluating program plans, strategies, regulations, program announcements, guidelines, and procedures applicable to ACF discretionary, formula, entitlement and block grant programs. The Office provides oversight and direction in the establishment of appropriate State and grantee allocations.

OGM is responsible for directing the receipt and review of all competitive grant applications; developing proposals and/or coordinating management initiatives to improve the efficiency of both the financial administration and awarding of ACF discretionary, formula, entitlement and block grant programs; and developing procedures for monitoring and review of ACF grant programs. The Office serves as the lead for ACF in coordination and liaison with the Department, Regional Offices and other Federal agencies on grants administration and management.

G. Delete KB.20 Functions, Paragraph H, The Equal Employment Opportunity and Civil Rights Staff in its Entirety and Replace With the Following:

H. The Equal Employment Opportunity and Civil Rights Staff (EEOCRS) serves as the principal advisor, through the Deputy Assistant Secretary for Administration, to the Assistant Secretary on all aspects of the Agency's Equal Employment Opportunity and Civil Rights program.

The Staff serves as the liaison between ACF and the HHS Office for Civil Rights. The Staff directs and manages the ACF Equal Employment Opportunity and Civil Rights program in accordance with Equal Employment Opportunity Commission (EEOC) regulations and HHS guidelines. The immediate oversight is provided by a staff under the direction of the ACF EEO Officer. The Staff plans, develops and evaluates programs and procedures designed to identify and eliminate discrimination in employment, training, incentive awards, promotion and career opportunities. They are responsible for implementing and evaluating a cost-effective, timely and impartial system for processing individual complaints of discrimination under Title VII of the Civil Rights Act of 1964, as amended. The Staff provides information, guidance, advice and technical assistance to ACF supervisors and managers on affirmative employment planning and other means of achieving parity and promoting work force diversity. The Staff is responsible for ensuring that ACF-conducted programs do not discriminate against recipients on the basis of race, color, national origin, age or disability. The Staff monitors and implements civil rights compliance actions under Title VI, Section 504 of the Rehabilitation Act of 1973, as amended and the Age Discrimination Act of 1975, as amended. The Staff implements the applicable provisions of the Americans with Disabilities Act of 1990.

Dated: August 14, 2002.
Wade F. Horn,
Assistant Secretary for Children and Families.

[FR Doc. 02-21465 Filed 8-21-02; 8:45 am]

BILLING CODE 4184-01-P